DEPARTMENT OF LABOR

Employment and Training Administration

20 CFR Parts 660, 661, 662, 663, 664, 665, 666, 667, 668, 669, 670, 671, and 672

[Docket No. ETA-2025-0001]

RIN 1205-AC26

Rescission of Workforce Investment Act Regulations

AGENCY: Employment and Training Administration, Labor.

ACTION: Direct final rule; confirmation of effective date.

SUMMARY: The Employment and Training Administration (ETA) of the Department of Labor (Department) is confirming the effective date of September 2, 2025, for the direct final rule that was published in the Federal Register on July 1, 2025. This direct final rule removes the regulations that implemented and governed the Title I Workforce Investment Act (WIA) programs at the national, State, and local levels and provided program requirements applicable to all WIA formula and competitive funds. Title I of WIA was repealed by Congress with the enactment of the Workforce Innovation and Opportunity Act (WIOA) on June 22, 2014, and all remaining grant funding under WIA Title I has been closed out by the Department. Accordingly, these regulations are no longer necessary, and the Department is removing the regulations from the Code of Federal Regulations (CFR) for programs that are no longer operative.

DATES: Effective date: The effective date of September 2, 2025, for the direct final rule published July 1, 2025, (90 FR 27992), is confirmed.

ADDRESSES: Please refer to Docket ID ETA-2025-0001 when contacting the Department about the availability of information for this action. You may obtain publicly-available information related to this action by visiting https://www.regulations.gov and search for Docket ID ETA-2025-0001.

FOR FURTHER INFORMATION CONTACT: Luke Murren, Acting Administrator, Office of Policy Development and Research, U.S. Department of Labor, 200 Constitution Avenue NW, Room N-5641, Washington, DC 20210; telephone (202) 693-3700 (this is not a toll-free number). For people with a hearing or speech disability who need assistance using the telephone system, please dial 711 to access telecommunications relay services.

SUPPLEMENTARY INFORMATION: On July 1, 2025, (90 FR 27992), the Department published a direct final rule removing its regulations in parts 660, 661, 662, 663, 664, 665, 666, 667, 668, 669, 670, 671, and 672 of title 20 of the CFR programs that are no longer operative. In the direct final rule, the Department stated that, if no significant adverse comments were received, then the direct final rule would become effective on September 2, 2025. Comments from the public were due on July 31, 2025, and were posted publicly in Docket ID ETA-2025-0001 on www.regulations.gov.

The Department received one comment opposed to the removal of the WIA regulations, but the comment did not meet the criteria to be considered a significant adverse comment to the removal of these regulations. The commenter argued for retaining the WIA regulations in the CFR, largely for historical purposes and preserving access to the regulations. Users can access the Workforce Investment Act final rule at https://www.govinfo.gov/content/pkg/FR-2000-08-11/pdf/00-19985.pdf. The final rule was published on August 11, 2000 (65 FR 49294) in the Federal Register, and previous editions of the Federal Register are available online at the www.federalregister.gov website.

Additionally, the CFR is the codification of the general and permanent rules published in the Federal Register by the departments and agencies of the Federal Government. The Electronic Code of Federal Regulations (eCFR) is a point-in-time system that allows users to browse the CFR as it existed at any point in time since January 2017. The www.ecfr.gov website allows users to view parts after they have been removed from the CFR by viewing a point in time in the eCFR prior to the parts' removal. Paper copies of the CFR are also available for purchase through the Government Publication Office bookstore.¹

¹ CFR Title 20 Pts. 657-END, https://bookstore.gpo.gov/products/cfr-title-20-pts-657-end-code-federal-regulations-2024. Accessed July 31, 2025.

Parties who are interested in the history of regulations have several ways to access these changes over time. As noted in the Rescission of Workforce Investment Act Regulations; direct final rule (DFR) (herein, Rescission DFR), WIA was repealed by WIOA. In the Notice of Proposed Rulemaking for the WIOA regulations (80 FR 20690), the Department discussed the major changes in the WIOA regulations from the WIA regulations in III. B. of the background section. The public was invited to comment on the proposed WIOA regulations during a 60-day comment period. To assist the public with understanding the changes from WIA to WIOA, the WIOA final rule (81 FR 56072) contained a crosswalk of WIA and WIOA regulations by subject matter in Table 1, allowing users to clearly see which part of the WIOA regulations correspond with which part of the WIA regulations.

As the WIOA final rule is contained in the Federal Register, the regulatory history of WIA and WIOA is already preserved. The CFR is not the appropriate venue for maintaining outdated regulations for a repealed law. The commenter suggested that these regulations must be preserved in the CFR for oversight, program equity, and accountability, but did not state why the current CFR is the appropriate venue for maintaining regulations that are no longer in effect. As noted above, the foundation for the current WIOA regulations is well captured in other documents, including the WIOA final rule.

The commenter stated that WIA continues to have bearing on litigation, audits, performance monitoring, and congressional oversight, but did not specify any current litigation, audits, performance monitoring, or congressional oversight that references the WIA regulations. The Department is unaware of any instance in which the WIA regulations are currently applicable. Finally, the commenter discussed the need for the public to be able to comment on the rescission of the WIA regulations. In addition to the 60-day comment period in 2015 associated with the promulgation of the WIOA regulations, the Rescission DFR provided 30-days for the public to provide substantive, significant adverse comments in opposition to the removal of the WIA regulations. This commenter availed themselves of the opportunity to comment during the open comment period to provide input on the rescission.

A significant adverse comment ² is one which explains why the rule would be inappropriate, including challenges to the rule's underlying premise or approach, or why it would be ineffective or unacceptable without a change. This comment is not a significant adverse comment as it does not indicate a reason why removing these regulations from the CFR would be inappropriate or how removal would have consequences for the administration of Departmental programs. Therefore, the direct final rule will become effective as scheduled.

² Administrative Conference of the United States, “Procedures for Noncontroversial and Expedited Rulemaking”, Recommendation by the Committee on Regulation, January 15, 1995. Accessed on August 1, 2025, at: https://www.acus.gov/document/procedures-noncontroversial-and-expedited-rulemaking.

Susan Frazier,
Acting Assistant Secretary for Employment and Training, Labor.

[FR Doc. 2025-16771 Filed 8-29-25; 8:45 am]

BILLING CODE 4510-FN-P